FEDERAL COMMUNICATIONS COMMISSION

47 CFR Part 36

[CC Docket No. 80-286, FCC No. 24-71; FRS ID 231218]

Jurisdictional Separations and Referral to the Federal-State Joint Board

AGENCY: Federal Communications Commission.

ACTION: Notification of renewed referral.

SUMMARY: In this document, the Commission renews the existing referrals to the Federal-State Joint Board on Separations, including both the 1997 and 2009 comprehensive reform referrals and the 2018 interim reform measures referral. The Commission renews these referrals in light of the substantial changes that have unfolded within the telecommunications market alongside extensive changes in federal and state regulatory frameworks since these referrals were first made. The Commission is committed to working with the Joint Board to develop an efficient, modern ratemaking system for all carriers for the longer term, as well as any interim adjustments that may be necessary while comprehensive reform remains pending.

DATES: July 19, 2024.

FOR FURTHER INFORMATION CONTACT: Marv Sacks, Pricing Policy Division of the Wireline Communications Bureau, at (202) 418-2017 or via email at marvin.sacks@fcc.gov.

People with Disabilities: To request materials in accessible formats for people with disabilities (Braille, large print, electronic files, audio format), send an email to fcc504@fcc.gov, or call the Consumer and Governmental Affairs Bureau at (202) 418-0530 (voice) or (202) 418-0432 (TTY).

SUPPLEMENTARY INFORMATION: This action arises from a Commission Order that is part of an accompanying Further Notice of Proposed Rulemaking in FCC 24-71, released July 1, 2024. This renewed referral is not a rule adopted through notice and comment rulemaking under 5 U.S.C. 553(b) and is presently effective. The full text may be obtained from the following internet address: https://www.fcc.gov/document/fcc-proposes-extending-separations-freeze. A proposed rule that relates to the accompanying Further Notice of Proposed Rulemaking is published elsewhere in this issue of the Federal Register.

I. Synopsis

1. Consistent with Commission precedent, the Commission is not seeking an additional referral to, or expecting an additional recommended decision from, the Joint Board to extend the separations rules freeze. At the same time, the Commission finds it appropriate to renew the Commission's prior reform referrals to the Joint Board in this Order, which accompanies the Further Notice of Proposed Rulemaking. In previously extending the freeze, the Commission has found such extensions to fall within the scope of the Joint Board's recommended decision granting the first freeze. In the 2001 Separations Freeze Order (66 FR 33202; June 21, 2001) following the Joint Board recommendation, in adopting the first separations freeze, the Commission recognized that it might need to extend the freeze if comprehensive reform was not completed before the freeze expired. Since then, the Commission has extended the freeze eight times without an additional referral of the freeze to the Joint Board. The Commission nevertheless values the Joint Board's input, and commits to engage in consultations with the Joint Board regarding the Commission's proposed extension and any interim separations reform measures that may be needed during the freeze.

2. In this document, the Commission renews the existing referrals to the Federal-State Joint Board on Separations, including both the 1997 and 2009 comprehensive reform referrals and the 2018 interim reform measures referral. The Commission renews these referrals in light of the substantial changes that have unfolded within the telecommunications market alongside extensive changes in federal and state regulatory frameworks since these referrals were first made.

II. Procedural Matters

3. Final Regulatory Flexibility Analysis. Although in previous orders that included comprehensive and interim reform referrals to the Joint Board, the Commission incorporated a Final Regulatory Flexibility Analysis (FRFA), such analysis is not required here because the renewed referral is not a rule adopted through notice and comment rulemaking under 5 U.S.C. 553(b).

4. Paperwork Reduction Act. This document does not contain proposed information collection requirements subject to the Paperwork Reduction Act of 1995, Public Law 104-13. In addition, therefore, it does not contain any new or modified information collection burden for small business concerns with fewer than 25 employees pursuant to the Small Business Paperwork Relief Act of 2002, Public Law 107-198.

III. Ordering Clauses

5. Accordingly, it is ordered, pursuant to sections 1, 4(i) and (j), 205, 220, 221(c), 254, 303(r), 403, and 410 of the Communication Act of 1934, as amended, 47 U.S.C. 151, 154(i) and (j), 205, 220, 221(c), 254, 303(r), 403, 410, and section 706 of the Telecommunications Act of 1996, as amended, 47 U.S.C. 1302, that this Order is adopted.

6. It is further ordered that, pursuant to section 410(c) of the Communications Act of 1934, as amended, 47 U.S.C. 410(c), this Order renews the prior referrals to the Federal-State Joint Board on Separations for preparation of a recommended decision.

7. It is further ordered, pursuant to section 220(i) of the Communications Act, 47 U.S.C. 220(i), that notice be given to each state commission of the above rulemaking proceeding, and that the Secretary shall serve a copy of this Order on each state commission.

8. It is further ordered that the Commission's Office of the Secretary shall send a copy of this Order to the Chief Counsel for Advocacy of the Small Business Administration.

Federal Communications Commission.
Katura Jackson,
Federal Register Liaison, Office of the Secretary.

[FR Doc. 2024-15563 Filed 7-18-24; 8:45 am]

BILLING CODE 6712-01-P